DEPARTMENT OF STATE

[Public Notice: 10781]

Determination and Certification of Countries Not Cooperating Fully With United States Antiterrorism Efforts

Pursuant to section 40A of the Arms Export Control Act (22 U.S.C. 2781), and Executive Order 13637, as amended, I hereby determine and certify to the Congress that the following countries are not cooperating fully with United States antiterrorism efforts: Iran, Democratic People's Republic of Korea (DPRK, or North Korea), Syria, and Venezuela. This determination and certification shall be transmitted to the Congress and published in the Federal Register.

John J. Sullivan,
Deputy Secretary of State.

[FR Doc. 2019-11157 Filed 5-28-19; 8:45 am]

BILLING CODE 4710-AD-P